DEPARTMENT OF HOMELAND SECURITY

Coast Guard

[Docket No. USCG-2024-0619]

Great Lakes Pilotage Advisory Committee Meeting; September 2024 Meeting

AGENCY: U.S. Coast Guard, Department of Homeland Security.

ACTION: Notice of open Federal advisory committee meeting.

SUMMARY: The Great Lakes Pilotage Advisory Committee (Committee) will meet in Massena, New York, to discuss matters relating to Great Lakes Pilotage, including review of proposed Great Lakes Pilotage regulations and policies. The meeting will be open to the public.

DATES:

Meeting: The Committee will meet on Tuesday, September 10, 2024, from 8 a.m. to 5:30 p.m. Eastern Daylight Time (EDT). Please note that this meeting may adjourn early if the Committee has completed its business.

Comments and supporting documentations: To ensure your comments are received by Committee members prior to the meeting, submit your written comments no later than August 30, 2024.

ADDRESSES: The meeting will be held at the Saint Lawrence Seaway Visitor Center at Eisenhower Lock, 76 Barnhart Island Road, Massena, NY 13662.

Pre-registration Information: Pre-registration is not required for access to the meeting.

The Great Lakes Pilotage Advisory Committee is committed to ensuring all participants have equal access regardless of disability status. If you require reasonable accommodation due to a disability to fully participate, please email Mr. Francis Levesque at Francis.R.Levesque@uscg.mil. or call (571) 308-4941 as soon as possible.

Instructions: You are free to submit comments at any time, including orally at the meeting, but if you want Committee members to review your comment before the meeting, please submit your comments no later than August 30, 2024. We are particularly interested in comments on the topics in the “Agenda” section below. We encourage you to submit comments through the Federal Decision Making Portal at: https://www.regulations.gov. To do so, go to https://www.regulations.gov type USCG-2024-0619 in the search box and click on it. Then click on the Comment option. If your material cannot be submitted using https://www.regulations.gov., email the individual in the FOR FURTHER INFORMATION CONTACT section of this document for alternate instructions. You must include the docket number USCG-2024-0619. Comments received will be posted without alteration at https://www.regulations.gov including any personal information provided. You may wish to view the Privacy and Security Notice found via link on the homepage of https://www.regulations.gov and DHS's eRulemaking System of Records notice (85FR 14226, March 11, 2020). If you encounter technical difficulties with comment submission, contact the individual listed in the FOR FURTHER INFORMATION CONTACT section of this notice.

Docket Search: Documents mentioned in this notice as being available in the docket, and all public comment, will be in our online docket at https://www.regulations.gov and can be viewed by following that website's instructions. Additionally, if you go to the online docket and sign-up for email alerts, you will be notified when comments are posted.

FOR FURTHER INFORMATION CONTACT: Mr. Francis Levesque, Alternate Designated Federal Officer of the Great Lakes Pilotage Advisory Committee, telephone (571) 308-4941 or email Francis.R.Levesque@uscg.mil.

SUPPLEMENTARY INFORMATION: Notice of this meeting is given pursuant to the Federal Advisory Committee Act (Pub. L. 117-286, 5 U.S.C. ch. 10). The Committee was established under the authority of 46 U.S.C. 9307 and makes recommendations to the Secretary of Homeland Security and the U.S. Coast Guard on matters relating to Great Lakes pilotage, including review of proposed Great Lakes pilotage regulations and policies.

Agenda

The Great Lakes Pilotage Advisory Committee will meet on Tuesday, September 10, 2024, to review, discuss, deliberate, and formulate recommendations, as appropriate on the following topics:

1. Ordering a Pilot & Prospecting.

2. Change Points/Double Pilotage/Daytime Navigation Restrictions.

3. 46 U.S.C. 401.320.

• Standard for utilizing limited pilot resources to inform staffing model.

• Dispatching—Logistics and Providing Pilotage Service/Optimizing limited Pilot resources.

• Car Service versus Pilots driving themselves between assignments.

4. Pilot availability.

5. Compensation practices.

6. Pilot's role in the supply chain.

7. Winter navigation.

8. Great Lakes Pilotage Memorandum of Understanding update.

9. Rate Making Methodology.

• Allowable Expenses.

• Working Capital Fund.

• Pilot Association Projects.

10. Seaway Vessel Identification System Project.

11. CohnReznick presentation regarding expense and revenue reports for annual rulemaking.

12. Tug usage at the SOO locks.

13. Public Comments.

14. Closing Remarks and Adjournment of Meeting.

A copy of all meeting documentation will be available at https://www.dco.uscg.mil/Our-Organization/Assistant-Commandant-for-Prevention-Policy-CG-5P/Marine-Transportation-Systems-CG-5PW/Office-of-Waterways-and-Ocean-Policy/Great-Lakes-Pilotage-Advisory-Committee/by September 3, 2024. Alternatively, you may contact Mr. Francis Levesque as noted in the FOR FURTHER INFORMATION CONTACT section above.

Public comments or questions will be taken throughout the meeting as the Committee discusses the issues and prior to deliberations and voting. There will also be a public comment period at the end of the meeting.

Speakers are requested to limit their comments to 5 minutes. Please contact the individual listed in the FOR FURTHER INFORMATION CONTACT section above, to register as a speaker.

Dated: July 22, 2024.
Michael D. Emerson,
Director, Marine Transportation Systems.

[FR Doc. 2024-16410 Filed 7-24-24; 8:45 am]

BILLING CODE 9110-04-P